ENVIRONMENTAL PROTECTION AGENCY

[EPA-HQ-OECA-2013-0319; FRL-10008-95-OMS]

Information Collection Request Submitted to OMB for Review and Approval; Comment Request; NSPS for VOC Emissions From Petroleum Refinery Wastewater Systems (Renewal)

AGENCY: Environmental Protection Agency (EPA).

ACTION: Notice.

SUMMARY: The Environmental Protection Agency (EPA) has submitted an information collection request (ICR), NSPS for VOC Emissions from Petroleum Refinery Wastewater Systems (EPA ICR Number 1136.13, OMB Control Number 2060-0172), to the Office of Management and Budget (OMB) for review and approval in accordance with the Paperwork Reduction Act. This is a proposed extension of the ICR, which is currently approved through June 30, 2020. Public comments were previously requested via the Federal Register on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 29, 2020.

ADDRESSES: Submit your comments to EPA, referencing Docket ID Number EPA-HQ-OECA-2013-0319, online using www.regulations.gov (our preferred method), or by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for VOC Emissions from Petroleum Refinery Wastewater Systems (40 CFR part 60, subpart QQQ) were proposed on May 4, 1987, and promulgated on November 23, 1988. These regulations apply to existing facilities and new wastewater systems at petroleum refineries, and cover individual drain systems, oil-water separators, and aggregate facilities. An individual drain system consists of all process drains connected to the first downstream junction box. An oil-water separator is the wastewater treatment equipment used to separate oil from water. An aggregate facility is an individual drain system together with ancillary downstream sewer lines and oil-water separators, down to and including the secondary oil-water separator, as applicable. Aggregate facilities are intended to capture any potential VOC emissions within the petroleum refinery wastewater system during expansions of and additions to the system. New facilities include those that commenced construction, modification, or reconstruction after the date of proposal. This information is being collected to assure compliance with 40 CFR part 60, subpart QQQ.

In general, all NSPS standards require initial notifications, performance tests, and periodic reports by the owners/operators of the affected facilities. They are also required to maintain records of the occurrence and duration of any startup, shutdown, or malfunction in the operation of an affected facility, or during any period in which the monitoring system is inoperative. These notifications, reports, and records are essential in determining compliance, and are required of all affected facilities subject to NSPS.

Form Numbers: None.

Respondents/affected entities: Petroleum refinery wastewater systems.

Respondent's obligation to respond: Mandatory (40 CFR part 60, subpart QQQ).

Estimated number of respondents: 149 (total).

Frequency of response: Initially, occasionally, and semiannually.

Total estimated burden: 10,200 hours (per year). Burden is defined at 5 CFR 1320.3(b).

Total estimated cost: $1,200,000 (per year), which includes $19,400 in annualized capital/startup and/or operation & maintenance costs.

Changes in the Estimates: The burden in labor hours is unchanged from the previous ICR renewal and the number of responses is unchanged. The costs of performance testing and CEMS monitoring are unchanged from the previous ICR renewal. The regulations have not changed over the past three years and are not anticipated to change over the next three years. The growth rate for the industry is very low, negative or non-existent, so there is no change in the estimate of the number of sources subject to this regulation since the previous ICR renewal.

Courtney Kerwin,
Director, Regulatory Support Division.

[FR Doc. 2020-09028 Filed 4-28-20; 8:45 am]

BILLING CODE 6560-50-P